DEPARTMENT OF HEALTH AND HUMAN SERVICES

Administration for Children and Families

[C.F.D.A. NUMBER: 93.671]

Funding Opportunity Announcement for Family Violence Prevention and Services/Grants for Domestic Violence Shelters/Grants to Native American Tribes (including Alaska Native Villages) and Tribal Organizations

AGENCY: Family and Youth Services Bureau (FYSB), Administration on Children, Youth, and Families (ACYF), ACF, HHS.

ACTION: This notice was originally published as Funding Opportunity Number HHS-2013-ACF-ACYF-FVPS-0561 on March 5, 2013 at http://www.acf.hhs.gov/grants/open/foa/view/HHS-2013-ACF-ACYF-FVPS-0561.

SUMMARY: This announcement governs the proposed award of formula grants under the Family Violence Prevention and Services Act (FVPSA) to Native American Tribes (including Alaska Native Villages) and Tribal organizations. The purpose of these grants is to assist Tribes in efforts to increase public awareness about, and primary and secondary prevention of family violence, domestic violence, and dating violence and to provide immediate shelter and supportive services for victims of family violence, domestic violence, or dating violence, and their dependents. This announcement sets forth the application requirements, the application process, and other administrative and fiscal requirements for grants in Fiscal Year 2013. Grantees are to be mindful that although the expenditure period for grants is a two-year period, an application is required each year to provide continuity in the provision of services.

Statutory Authority: Section 309 of the Family Violence Prevention and Services Act, as amended by Section 201 of the CAPTA Reauthorization Act of 2010, Pub.L. 111-320.

SUPPLEMENTARY INFORMATION:

I. Funding Opportunity Description

Description

Background

The Administration on Children, Youth and Families (ACYF) is committed to facilitating healing and recovery and promoting the social and emotional well-being of victims, children, youth, and families who have experienced domestic violence, maltreatment, exposure to violence, and trauma. This FVPSA funding opportunity announcement, administered through ACYF's Family and Youth Services Bureau (FYSB) is designed to assist Tribes in their efforts to support the establishment, maintenance, and expansion of programs and projects: (1) to prevent incidents of family violence, domestic violence, and dating violence; (2) to provide immediate shelter, supportive services, and access to community-based programs for victims of family violence, domestic violence, or dating violence, and their dependents; and (3) to provide specialized services for children exposed to family violence, domestic violence, or dating violence, underserved populations, and victims who are members of racial and ethnic minority populations (section 10406 (a).

Tribes face unique circumstances and obstacles when responding to family violence. The particular legal relationship of the United States to Indian Tribes creates a Federal trust responsibility to assist Tribal governments in safeguarding the lives of Indian victims of family violence.

The Department of Health and Human Services (HHS) consulted with Tribal governments regarding this grant program and the issue of violence against women. In FY 2012, the Administration for Children and Families (ACF) consulted with Tribal governments on all of the grant programs administered by ACF. In addition, ACYF representatives consulted during the Inter-Departmental Tribal Justice Safety and Wellness Consultation on FVPSA issues.

During FY 2012, HHS awarded FVPSA grants to 141 Tribes or Tribal organizations in support of 224 Tribes; 55 States and Territories; and 55 non-profit State Domestic Violence Coalitions. In addition, HHS awarded FVPSA grants to one National Indian Resource Center addressing Domestic Violence and Safety for Indian Women, and other national, special issue and culturally specific resource centers, and the National Domestic Violence Hotline.

Ensuring the Well-Being of Vulnerable Children and Families/Adults

ACYF is committed to facilitating healing and recovery and promoting the social and emotional well-being of children, youth, and families/adults who have experienced maltreatment, exposure to violence, and/or trauma. This funding opportunity announcement and other spending this fiscal year are designed to ensure that effective interventions are in place to build skills and capacities that contribute to the healthy, positive, and productive functioning of families.

Children, youth, adults and families who have experienced maltreatment, exposure to violence, and/or trauma are impacted along several domains, each of which must be addressed in order to foster social and emotional well-being and promote healthy, positive functioning:

• Understanding Experiences: A fundamental aspect of the human experience is the development of a world view through which one's experiences are understood. Whether that perspective is generally positive or negative impacts how experiences are interpreted and integrated. For example, one is more likely to approach a challenge as a surmountable, temporary obstacle if his or her frame includes a sense that “things will turn out alright.” On the contrary, negative experiences can color how future experiences are understood. Ongoing exposure to family violence might lead children, youth, and families/adults to believe that relationships are generally hostile in nature and affect their ability to enter into and stay engaged in safe and healthy relationships. Interventions should seek to address how children, youth, adults and families frame what has happened to them in the past and shape their beliefs about the future.

• Developmental Tasks: People grow physically and psychosocially along a fairly predictable course, encountering normal challenges and establishing competencies as they pass from one developmental stage to another. However, adverse events have a marked effect on the trajectory of normal social and emotional development, delaying the growth of certain capacities, and, in many cases, accelerating the maturation of others. Intervention strategies must be attuned to the developmental impact of negative experiences and address related strengths and deficits to ensure children, youth, adults and families develop along a healthy trajectory.

• Coping Strategies: The methods that children, youth, adults and families develop to manage challenges both large and small are learned in childhood, honed in adolescence, and practiced in adulthood. Those who have been presented with healthy stressors and opportunities to overcome them with appropriate encouragement and support are more likely to have an array of positive, productive coping strategies available to them as they go through life. For children, youth, adults and families who grow up in or currently live in unsafe, unpredictable environments, the coping strategies that may have been protective in that context may not be appropriate for safer, more regulated situations. Interventions should help children, youth, adults and families transform maladaptive coping methods into healthier, more productive strategies.

• Protective Factors: A wealth of research has demonstrated that the presence of certain contextual factors (e.g., supportive relatives, involvement in after-school activities) and characteristics (e.g., self-esteem, relationship skills) can moderate the impacts of past and future negative experiences. These protective factors are fundamental to resilience; building them is integral to successful intervention with children, youth, adults and families.

The skills and capacities in these areas support children, youth, adults and families as challenges, risks, and opportunities arise. In particular, each domain impacts the capacity of children, youth, adults and families to establish and maintain positive relationships with caring adults and supportive peers. The necessity of these relationships to social and emotional well-being and lifelong success in school, community, and at home cannot be overstated and should be central to all interventions with vulnerable children, youth, adults and families.

An important component of promoting social and emotional well-being includes addressing the impact of trauma, which can have a profound effect on the overall functioning of children, youth, adults and families. ACYF promotes a trauma-informed approach, which involves understanding and responding to the symptoms of chronic interpersonal trauma and traumatic stress across the domains outlined above, as well as the behavioral and mental health consistency of trauma.

ACYF anticipates a continued focus on social and emotional well-being as a critical component of its overall mission to ensure positive outcomes for all children, youth, adults and families. Tribal grantees have a critical role in incorporating ACYF priorities by helping to ensure trauma-informed interventions are embedded within the service provision framework of all services funded by FVPSA. Tribes and Tribal organizations are strongly encouraged to leverage the expertise of the FVPSA-funded National Indigenous Women's Resource Center on Domestic Violence and the National Center on Domestic Violence, Trauma and Mental Health to infuse programs with best and promising practices on trauma-informed interventions to support the social and emotional well-being of families seeking shelter and supportive services.

Use of Funds

Grantees should ensure that not less than 70 percent of the funds distributed are used for the primary purpose of providing immediate shelter and supportive services to adult and youth victims of family violence, domestic violence, or dating violence and their dependents; not less than 25 percent of the funds will be used for the purpose of providing supportive services and prevention services (section 10408(b)). FVPSA funds awarded to grantees should be used for activities described in (section 10408(b)):

Shelter

• Provision of immediate shelter and related supportive services to adult and youth victims of family violence, domestic violence, or dating violence, and their dependents, including paying for the operating and administrative expenses of the facilities for such shelter.

Supportive Services

• Provision of individual and group counseling, peer support groups, and referral to community-based services to assist family violence, domestic violence, and dating violence victims, and their dependents, in recovering from the effects of the violence.

• Provision of services, training, technical assistance, and outreach to increase awareness of family violence, domestic violence, and dating violence, and increase the accessibility of family violence, domestic violence, and dating violence services.

• Provision of culturally and linguistically appropriate services.

• Provision of services for children exposed to family violence, domestic violence, or dating violence, including age-appropriate counseling, supportive services, and services for the non-abusing parent that support that parent's role as a caregiver, which may, as appropriate, include services that work with the non-abusing parent and child together.

• Provision of advocacy, case management services, and information and referral services, concerning issues related to family violence, domestic violence, or dating violence intervention and prevention, including: (1) Assistance in accessing related Federal and State financial assistance programs; (2) legal advocacy to assist victims and their dependents; (3) medical advocacy, including provision of referrals for appropriate health care services (including mental health, alcohol, and drug abuse treatment), but which shall not include reimbursement for any health care services; (4) assistance locating and securing safe and affordable permanent housing and homelessness prevention services; (5) transportation, child care, respite care, job training and employment services, financial literacy services and education, financial planning and related economic empowerment services; and (6) parenting and other educational services for victims and their dependents.

• Provision of prevention services, including outreach to underserved populations.

• Assistance in developing safety plans, and supporting efforts of victims of family violence, domestic violence, or dating violence to make decisions related to their ongoing safety and well-being.

Annual FVPSA Tribal Grantee Meeting

FVPSA Tribal grantees must plan to attend the annual grantee meeting and may use grant funding to support the travel of up to two participants. The meeting is a training and technical assistance activity focusing on FVPSA administrative issues as well as the promotion of evidence informed and promising practices to address family violence, domestic violence and dating violence. Subsequent correspondence will advise the FVPSA Tribal grantees of the date, time and location of their grantee meeting.

Client Confidentiality

In order to ensure the safety of adult, youth, and child victims of family violence, domestic violence, or dating violence, and their families, FVPSA-funded programs must establish and implement policies and protocols for maintaining the confidentiality of records pertaining to any individual provided domestic violence services. Consequently, when providing statistical data on program activities and program services, individual identifiers of client records will not be used (section 10406(c)(5)).

In the annual grantee Performance Progress Report (PPR), grantees must collect unduplicated data from each program. No client level data should be shared with a third party, regardless of encryption, hashing, or other data security measures, without a written, time-limited release as described in section 10406(c)(5). The address or location of any FVPSA-supported shelter facility shall, except with written authorization of the person or persons responsible for the operation of such shelter, not be made public (section 10406(c)(5)(H)) and the confidentiality of records pertaining to any individual provided domestic violence services by any FVPSA-supported program will be strictly maintained.

Coordinated and Accessible Services

The impacts of family violence may include physical injury and death of primary or secondary victims, psychological trauma, isolation from family and friends, harm to children living with a parent or caretaker who is either experiencing or perpetrating family violence, increased fear, reduced mobility, damaged credit, employment and financial instability, homelessness, substance abuse, chronic illnesses, and a host of other health and related mental health consequences. In Tribal communities, these dynamics may be compounded by barriers such as the isolation of vast rural areas, the concern for safety in isolated settings, lack of housing and shelter options, and the transportation requirements over long distances. These factors heighten the need for the coordination of the services through an often limited delivery system. To help bring about a more effective response to the problem of family violence, domestic violence, or dating violence, HHS urges Tribes and Tribal organizations receiving funds under this grant announcement to coordinate activities and related issues and to consider joining a consortium of Tribes to coordinate service delivery where appropriate.

It is essential that community service providers are involved in the design and improvement of intervention and prevention activities. Coordination and collaboration among victim services providers; community-based, culturally specific, and faith-based services providers; housing and homeless services providers; and Tribal, Federal, State, and local public officials and agencies are needed to provide more responsive and effective services to victims of family violence, domestic violence, and dating violence, and their families.

To promote a more effective response to family violence, domestic violence, and dating violence, HHS requires States receiving FVPSA funds to collaborate with State Domestic Violence Coalitions, Tribes, Tribal organizations, service providers, and community-based organizations to address the needs of family violence, domestic violence, and dating violence victims, particularly for those who are members of racial and ethnic minority populations and underserved populations (section 10407(a)(2)).

To serve victims most in need and to comply with Federal law, services must be widely accessible. Services must not discriminate on the basis of age, disability, sex, race, color, national origin, or religion (section 10406(c)(2)). The HHS Office for Civil Rights provides guidance to grantees in complying with civil rights laws that prohibit discrimination on these bases. Please see www.hhs.gov/ocr/civilrights/understanding/index.html. HHS also provides guidance to recipients of federal financial assistance on meeting the legal obligation to take reasonable steps to provide meaningful access to federally assisted programs by persons with limited English proficiency. Please see www.hhs.gov/ocr/civilrights/resources/laws/revisedlep.html. Additionally, HHS provides guidance regarding access to HHS-funded services for immigrant survivors of domestic violence. Please see www.hhs.gov/ocr/civilrights/resources/specialtopics/origin/domesticviolencefactsheet.html.

Services must also be provided on a voluntary basis; receipt of emergency shelter or housing must not be conditioned on participation in supportive services (section 10408(d)).

Definitions

Tribes and Tribal organizations should use the following definitions in carrying out their programs.

Dating Violence: Violence committed by a person who is or has been in a social relationship of a romantic or intimate nature with the victim and where the existence of such a relationship shall be determined based on a consideration of the length of the relationship, the type of relationship, and the frequency of interaction between the persons involved in the relationship.

Domestic Violence: Felony or misdemeanor crimes of violence committed by a current or former spouse of the victim, by a person with whom the victim shares a child in common, by a person who is cohabitating with or has cohabitated with the victim as a spouse, by a person similarly situated to a spouse of the victim under the domestic or family violence laws of the jurisdiction receiving grant monies, or by any other person against an adult or youth victim who is protected from that person's acts under the domestic or family violence laws of the jurisdiction.

Family Violence: Any act or threatened act of violence, including any forceful detention of an individual, which (a) results or threatens to result in physical injury; and (b) is committed by a person against another individual (including an elderly person) to whom such person is, or was, related by blood or marriage, or otherwise legally related, or with whom such person is, or was, lawfully residing.

Indian Tribe: Any Indian Tribe, band, nation, or other organized group or community, including any Alaska Native village or regional or village corporation as defined in or established pursuant to the Alaska Native Claims Settlement Act (43 U.S.C. § 1601 et seq.), which is recognized as eligible for the special programs and services provided by the United States to Indians because of their status as Indians.

Personally Identifying Information or Personal Information: Any individually identifying information for or about an individual, including information likely to disclose the location of a victim of domestic violence, dating violence, sexual assault, or stalking, including: a first and last name, a home or other physical address, contact information (including a postal, email or Internet protocol address, or telephone or facsimile number), a social security number and any other information, including date of birth, racial or ethnic background, or religious affiliation, that, in combination with any of the above identifiers, would serve to identify any individual.

Shelter: The provision of temporary refuge and supportive services in compliance with applicable State law and regulation governing the provision, on a regular basis, of shelter, safe homes, meals, and supportive services to victims of family violence, domestic violence, or dating violence, and their dependents.

State Domestic Violence Coalition: A statewide nonprofit private domestic violence service organization that has a membership that includes a majority of the primary-purpose domestic violence service providers in the State; has board membership representative of primary purpose domestic violence service providers and the communities in which the services are being provided in the State; has as its purpose to provide education, support, and technical assistance to such service providers to enable the providers to establish and maintain shelter and supportive services for victims of domestic violence and their dependents; and serves as an information clearinghouse, primary point of contact, and resource center on domestic violence for the State and supports the development of policies, protocols and procedures to enhance domestic violence intervention and prevention in the State.

Supportive Services: Services for adult and youth victims of family violence, domestic violence, or dating violence, and their dependents. Such services are designed to meet the needs of such victims for short-term, transitional, or long-term safety and provide counseling, advocacy, or assistance for victims of family violence, domestic violence, or dating violence, and their dependents.

Tribal Consortium: Groups of Tribes who agree to apply for and administer a single FVPSA grant with one Tribe or Tribal organization responsible for grant administration. In a Tribal consortium, the population of all of the Tribes involved is used to calculate the award amount. The allocations for each of the Tribes included in the consortium are combined to determine the total grant for the consortium.

Tribally Designated Official: An individual designated by an Indian Tribe, Tribal organization, or nonprofit private organization authorized by an Indian Tribe to administer a grant.

Tribal Organization: The recognized governing body of any Indian Tribe; any legally established organization of Indians that is controlled, sanctioned, or chartered by such governing body or which is democratically elected by the adult members of the Indian community to be served by such organization, and that includes the maximum participation of Indians in all phases of its activities. In any case where a contract is let or grant made to an organization to perform services benefiting more than one Indian Tribe, the approval of each such Indian Tribe shall be a prerequisite to the letting or making of such contract or grant.

Underserved Populations: Populations underserved because of geographic location, underserved racial and ethnic populations, populations underserved because of special needs (such as language barriers, disabilities, alienage status, or age), and any other population determined to be underserved by the Attorney General or by the Secretary of HHS, as appropriate.

II. Award Information

Subject to the availability of Federal appropriations and as authorized by law, in FY 2013, ACYF will allocate 10 percent of the appropriation available under section 10403(a) to Tribes and Tribal organizations for the establishment and operation of shelters, safe houses, and the provision of supportive services for victims of family violence, domestic violence, or dating violence, and their dependents.

HHS will also make available funds to States to support local domestic violence programs to provide immediate shelter and supportive services for adult and youth victims of family violence, domestic violence, or dating violence, and their dependents; State Domestic Violence Coalitions to provide technical assistance and training, advocacy services, among other activities with local domestic violence programs; the national resource centers, special issue resource centers and culturally specific resource centers; the National Domestic Violence Hotline; and to support discretionary projects including training and technical assistance, collaborative projects with advocacy organizations and service providers, data collection efforts, public education activities, research, and other demonstration projects.

In computing tribal allocations, ACF will use the latest available population figures from the Census Bureau. The latest Census population counts may be viewed at: www.census.gov. Where Census Bureau data are unavailable, ACF will use figures from the Bureau of Indian Affairs' (BIA's) Indian Population and Labor Force Report, which is available at: www.bia.gov/WhatWeDo/Knowledge/Reports/index.htm.

The funding formula for the allocation of family violence funds is based upon the Tribe's population. The formula has two parts, the Tribal population base allocation and a population category allocation.

The base allocations are determined by a Tribe's population and a funds allocation schedule. Tribes with populations between 1 and 50,000 people receive a $2,500 base allocation for the first 1,500 people. For each additional 1,000 people above the 1,500 person minimum, a Tribe's base allocation is increased $1,000. Tribes with populations between 50,001 to 100,000 people receive base allocations of $125,000, and Tribes with a population of 100,001 to 150,000 receive a base allocation of $175,000.

Once the base allocations have been distributed to the Tribes that have applied for FVPSA funding, the ratio of the Tribal population category allocation to the total of all base allocations is then considered in allocating the remainder of the funds. By establishing base amounts with distribution of proportional amounts for larger Tribes, FYSB is balancing the need for basic services for all Tribes with the greater demand for services among Tribes with larger populations. In FY 2012, actual grant awards ranged from $14,897-$1,675,967.

Tribes are encouraged to apply for FVPSA funding as a consortium (see Section I. Definitions). The allocations for each of the Tribes included in the consortium will be combined to determine the total grant for the consortium.

Length of Project Periods

FVPSA Tribal formula grant awards are for a 2-year period. The project period for this award is from October 1, 2012-September 30, 2014.

Expenditure Period

The project period under this program announcement is 24 months. The FVPSA funds may be used for expenditures starting October 1 of each fiscal year for which they are granted, and will be available for expenditure through September 30 of the following fiscal year; i.e., FY 2013 funds may be used for expenditures from October 1, 2012, through September 30, 2014. For example:

Award year (Federal Fiscal Year (FY)) | Project period (24 Months) | Application requirements and expenditure periods
FY 2013 | 10/01/2012-9/30/2014 | Regardless of the date the award is received, these funds may be expended by the grantee for obligations incurred since October 1, 2012. The funds may be expended through September 30, 2014.

Re-allotted funds, if any, are available for expenditure until the end of the fiscal year following the fiscal year that the funds became available for re-allotment. FY 2013 grant funds that are made available to Tribes and Tribal organizations through re-allotment must be expended by the grantee no later than September 30, 2014.

III. Eligibility Information

Tribes, Tribal organizations and nonprofit private organizations authorized by a Tribe, as defined in Section I of this announcement, are eligible for funding under this program. A Tribe has the option to authorize a Tribal organization or a nonprofit private organization to submit an application and administer the grant funds awarded under this grant (section 10409(b)). Tribes may apply singularly or as a consortium with other Tribes.

Additional Information on Eligibility

DUNS Number Requirement

Data Universal Numbering System (DUNS) Number is the nine-digit, or thirteen-digit (DUNS + 4), number established and assigned by Dun and Bradstreet, Inc. (D&B) to uniquely identify business entities.

All applicants and sub-recipients must have a DUNS number at the time of application in order to be considered for a grant or cooperative agreement. A DUNS number is required whether an applicant is submitting a paper application or using the Government-wide electronic portal, www.Grants.gov. A DUNS number is required for every application for a new award or renewal/continuation of an award, including applications or plans under formula, entitlement, and block grant programs. A DUNS number may be acquired at no cost online at http://fedgov.dnb.com/webform. To acquire a DUNS number by phone, contact the D&B Government Customer Response Center:

U.S. and U.S. Virgin Islands: 1-866-705-5711.

Alaska and Puerto Rico: 1-800-234-3867 (Select Option 2, then Option 1).

Monday-Friday 7 a.m. to 8 p.m., CST.

The process to request a DUNS Number by telephone will take between 5 and 10 minutes.

SAM Requirement (www.Sam.gov)

The System for Award Management (SAM) at www.sam.gov is a new system that consolidates the capabilities of a number of systems that support Federal procurement and award processes. Phase 1 of SAM includes the capabilities previously provided via Central Contractor Registration (CCR)/Federal Agency Registration (FedReg), Online Representations and Certifications Application (ORCA), and the Excluded Parties List System (EPLS).

SAM is the Federal registrant database and repository into which an entity must provide information required for the conduct of business as a recipient. The former CCR Web site is no longer be available. All information previously held in the Central Contractor Registration (CCR) system has been migrated to SAM.gov.

Applicants may register at www.sam.gov or by phone at 1-866-606-8220. Registration assistance is available through the “Help” tab at www.sam.gov or by phone at 1-866-606-8220.

Applicants are strongly encouraged to register at SAM well in advance of the application due date. Registration at SAM.gov must be updated annually.

Note: It can take 24 hours or more for updates to registrations at SAM.gov to take effect. An entity's registration will become active after 3-5 days. Therefore, check for active registration well before the application due date and deadline. An applicant can view their registration status by visiting http://www.bpn.gov/CCRSearch/Search.aspx and searching by their organization's DUNS number.

See the SAM Quick Guide for Grantees at https://www.sam.gov/sam/transcript/SAM_Quick_Guide_Grants_Registrations-v1.6.pdf. HHS requires all entities that plan to apply for, and ultimately receive, Federal grant funds from any HHS Agency, or receive subawards directly from recipients of those grant funds to:

• Be registered in at Sam.gov prior to submitting an application or plan;

• Maintain an active registration at www.sam.gov with current information at all times during which it has an active award or an application or plan under consideration by an HHS agency; and

• Provide its active DUNS number in each application or plan it submits to an HHS agency.

ACF is prohibited from making an award to an applicant that has not complied with these requirements. If, at the time an award is ready to be made, if the intended recipient has not complied with these requirements, ACF:

• May determine that the applicant is not qualified to receive an award; and

• May use that determination as a basis for making an award to another applicant

IV. Application Requirements

Forms, Assurances, Certifications, and Policy

Applicants seeking financial assistance under this announcement must submit the listed Standard Forms (SFs), assurances, certifications and policy. All required Standard Forms, assurances, and certifications are available at ACF Funding Opportunities Forms or at the Grants.gov Forms Repository unless specified otherwise.

Forms/certifications | Description | Where found
Certification Regarding Lobbying | Required of all applicants at the time of their application. If not available with the application, it must be submitted prior to the award of the grant | Available at www.acf.hhs.gov/grants/grants_resources.html.
SF-LLL—Disclosure of Lobbying Activities | If any funds have been paid or will be paid to any person for influencing or attempting to influence an officer or employee of any agency, a Member of Congress, an officer or employee of Congress, or an employee of a Member of Congress in connection with this commitment providing for the United States to insure or guarantee a loan, the applicant shall complete and submit the SF-LLL, “Disclosure Form to Report Lobbying,” in accordance with its instructions. Applicants must furnish an executed copy of the Certification Regarding Lobbying prior to award | “Disclosure Form to Report Lobbying” is available at www.acf.hhs.gov/grants-forms.
Survey on Ensuring Equal Opportunity for Applicants | Non-profit private organizations (not including private universities) are encouraged to submit the survey with their applications. Submission of the survey is voluntary. Applicants applying electronically may submit the survey along with the application as part of an appendix or as a separate document. Hard copy submissions should include the survey in a separate envelope | Available at www.acf.hhs.gov/grants/grants_resources.html.
The needs of lesbian, gay, bisexual, transgender, and questioning youth are taken into consideration in applicants program design. | See Appendix B for submission requirements. | See Appendix B for the complete policy description.

Assurances and Policy

Each applicant must provide signed copy of both the assurance and policy. (See Appendices A and B)

The Project Description

The content of the application should include the following in this order:

A. Cover Letter

The cover letter of the application should include the following information:

(1) The name of the Tribe, Tribal organization, or nonprofit private organization applying for the FVPSA grant and the mailing address.

(2) The name of the Tribally Designated Official authorized to administer this grant, along with the telephone number, fax number, and email address.

(3) The name of a Program Contact designated to administer coordination of the programming, including the telephone number, fax number, and email address.

(4) The Employee Identification Number (EIN) of the applicant organization submitting the application.

(5) The D-U-N-S number of the applicant organization submitting the application (see Section III. Eligibility).

(6) The signature of the Tribally Designated Official (see Section I. Definitions).

B. Program and Project Description

(1) A description of the service area(s) and population(s) to be served.

(2) A description of the services to be provided with FVPSA funds.

(3) A description of barriers that challenge the effectiveness of the operation of the program and/or services provided to victims of domestic violence, family violence and dating violence and their dependents.

(4) A description of the technical assistance needed to address the described barriers.

C. Capacity

A description of the applicant's operation of and/or capacity to carry out a FVPSA program. This might be demonstrated in ways such as the following:

(1) The current operation of a shelter, safe house, or domestic and dating violence prevention program;

(2) The establishment of joint or collaborative service agreements with a local public agency or a private non-profit agency for the operation of family violence, domestic violence, or dating violence activities or services; or

(3) The operation of other social services programs.

D. Services to be Provided

A description of the activities and services to be provided, including:

(1) How the grant funds will be used to provide shelter, supportive services, and prevention services for victims of family violence, domestic violence, and dating violence. Please note that for the purposes of this grant, domestic violence does not include services targeted solely to address child abuse and neglect.

(2) How the services are designed to reduce family violence, domestic violence, and dating violence.

(3) A plan describing how the organization will provide specialized services for children exposed to family violence, domestic violence, or dating violence.

(4) An explanation of how the program plans to evaluate the services to determine effectiveness.

(5) A description of how the funds are to be spent. For example, a half-time Domestic Violence Advocate and costs for transportation to shelter.

E. Involvement of Individuals and Organizations

A description of the procedures designed to involve knowledgeable individuals and interested organizations in providing services under FVPSA. For example, knowledgeable individuals and interested organizations may include Tribal officials or social services staff involved in family violence prevention, Tribal law enforcement officials, representatives of State or Tribal Domestic Violence Coalitions, and operators of domestic violence shelters and service programs.

F. Involvement of Community-based Organizations

(1) A description of how the applicant will involve community-based organizations whose primary purpose is to provide culturally appropriate services to underserved populations.

(2) A description of how these community-based organizations can assist the Tribe in addressing the unmet needs of such populations.

G. Current Signed Tribal Resolution

A copy of a current Tribal Resolution or an equivalent document that:

(1) Covers the entirety of FY 2013, including a date when the resolution or equivalent document expires, which can be no more than 5 years.

(2) States that the Tribe or Tribal organization has the authority to submit an application on behalf of the individuals in the Tribe(s) and to administer programs and activities funded.

Note: An applicant that received no funding in the immediately preceding fiscal year must submit a new Tribal resolution or its equivalent. An applicant funded as part of a consortium in the immediately preceding year that is now seeking funds as a single Tribe must also submit a new resolution or its equivalent. Likewise, an applicant funded as a single Tribe in the immediately preceding fiscal year that is now seeking funding as a part of a consortium must submit a new resolution or its equivalent. In addition to 1 and 2 above, new resolutions should state the Tribal service area and the primary services to be provided by the Tribe or Tribal organization under this grant.

H. Policies and Procedures

Written documentation of the policies and procedures developed and implemented, including copies of the policies and procedures, to ensure that the safety and confidentiality of clients and their dependents served is maintained as described in Section I.

Paperwork Reduction Disclaimer

As required by the Paperwork Reduction Act, 44 U.S.C. §§ 3501-3520, the public reporting burden for the project description is estimated to average 10 hours per response, including the time for reviewing instructions, gathering and maintaining the data needed, and reviewing the collection of information. The Project Description information collection is approved under OMB control number 0970-0280, which expires November 30, 2014. An agency may not conduct or sponsor, and a person is not required to respond to, a collection of information unless it displays a currently valid OMB control number.

Intergovernmental Review of Federal Programs

The review and comment provisions of the Executive Order (E.O.) 12372 and Part 100 do not apply. Federally recognized Tribes are exempt from all provisions and requirements of E.O. 12372.

Funding Restrictions

The Consolidated Appropriations Act, 2012 (Pub.L. 112-74), enacted December 23, 2011, limited the salary amount that could be awarded and charged to ACF mandatory and discretionary grants. Public Law 112-175 extended this salary limitation through the earlier of March 27, 2013 or enactment of the relevant FY 2013 appropriations statue(s). Accordingly, award funds issued under this announcement may not be used to pay the salary, or any percentage of salary, to an individual at a rate in excess of Executive Level II. The Executive Level II salary of the Federal Executive Pay scale is $179,700 (www.opm.gov/oca/12tables/html/ex.asp). This amount reflects an individual's base salary exclusive of fringe benefits and any income that an individual may be permitted to earn outside of the duties to the applicant organization. This salary limitation also applies to subawards/subcontracts under an ACF mandatory and discretionary grant.

Application Submission

Applications should be sent or delivered to: Family Violence Prevention and Services Program, Family and Youth Services Bureau, Administration on Children, Youth and Families, Administration for Children and Families, Attention: Shena R. Williams, 1250 Maryland Avenue, SW., Suite 8213, Washington, DC 20024.

V. Award Administration Information

Administrative and National Policy Requirements

Awards issued under this announcement are subject to the uniform administrative requirements and cost principles of 45 CFR § 74 (Uniform Administrative Requirements for Awards and Subawards to Institutions of Higher Education, Hospitals, Other Nonprofit Organizations, and Commercial Organizations) or 45 CFR§ 92 (Uniform Administrative Requirements for Grants and Cooperative Agreements to State, Local, and Tribal Governments). The Code of Federal Regulations (CFR) is available at www.gpo.gov.

An application funded with the release of Federal funds through a grant award, does not constitute, or imply, compliance with Federal regulations. Funded organizations are responsible for ensuring that their activities comply with all applicable federal regulations.

Equal Treatment for Faith-Based Organizations

Grantees are also subject to the requirements of 45 C.F.R. Part 87.1(c), Equal Treatment for Faith-Based Organizations, which says, “Organizations that receive direct financial assistance from the [Health and Human Services] Department under any Department program may not engage in inherently religious activities such as religious instruction, worship, or proselytization as part of the programs or services funded with direct financial assistance from the Department.” Therefore, organizations must take steps to completely separate the presentation of any program with religious content from the presentation of the Federally funded program by time or location in such a way that it is clear that the two programs are separate and distinct. If separating the two programs by time but presenting them in the same location, one program must completely end before the other program begins.

A faith-based organization receiving HHS funds retains its independence from Federal, State, and local governments, and may continue to carry out its mission, including the definition, practice, and expression of its religious beliefs. For example, a faith-based organization may use space in its facilities to provide secular programs or services funded with Federal funds without removing religious art, icons, scriptures, or other religious symbols. In addition, a faith-based organization that receives Federal funds retains its authority over its internal governance, and it may retain religious terms in its organization's name, select its board members on a religious basis, and include religious references in its organization's mission statements and other governing documents in accordance with all program requirements, statutes, and other applicable requirements governing the conduct of HHS funded activities.

Regulations pertaining to the Equal Treatment for Faith-Based Organizations, which includes the prohibition against Federal funding of inherently religious activities, Understanding the Regulations Related to the Faith-Based and Neighborhood Partnerships Initiative” are available at http://www.hhs.gov/partnerships/about/regulations/. Additional information, resources, and tools for faith-based organizations is available through The Center for Faith-based and Neighborhood Partnerships Web site at http://www.hhs.gov/partnerships/index.html and at the Administration for Children & Families: Toolkit for Faith-based and Community Organizations.

Requirements for Drug-Free Workplace

The Drug-Free Workplace Act of 1988 (41 U.S.C. § 8102 et seq.) requires that all organizations receiving grants from any Federal agency agree to maintain a drug-free workplace. By signing the application, the Authorizing Official agrees that the grantee will provide a drug-free workplace and will comply with the requirement to notify ACF if an employee is convicted of violating a criminal drug statute. Failure to comply with these requirements may be cause for debarment. Government wide requirements for Drug-Free Workplace for Financial Assistance are found in 2 CFR part 182; HHS implementing regulations are set forth in 2 CFR part 382.400. All recipients of ACF grant funds must comply with the requirements in Subpart B—Requirements for Recipients Other Than Individuals, 2 CFR part 382.225. The rule is available at http://ecfr.gpoaccess.gov/cgi/t/text/text-idx?c=ecfr;sid=18b5801410be6af416dc258873ffb7ec;rgn=div2;view=text;node=20091112%3A1.1;idno=49;cc=ecfr.

Debarment and Suspension

HHS regulations published in 2 CFR part 376 implement the government-wide debarment and suspension system guidance (2 CFR part 180) for HHS' non-procurement programs and activities. “Non-procurement transactions” include, among other things, grants, cooperative agreements, scholarships, fellowships, and loans. ACF implements the HHS Debarment and Suspension regulations as a term and condition of award. Grantees may decide the method and frequency by which this determination is made and may check the Excluded Parties List System (EPLS) located at www.sam.gov, although checking the EPLS is not required. More information is available at www.acf.hhs.gov/grants/grants_resources.html.

Pro-Children Act

The Pro-Children Act of 2001, 20 U.S.C. §§ 7181 through 7184, imposes restrictions on smoking in facilities where federally funded children's services are provided. HHS grants are subject to these requirements only if they meet the Act's specified coverage. The Act specifies that smoking is prohibited in any indoor facility (owned, leased, or contracted for) used for the routine or regular provision of kindergarten, elementary, or secondary education or library services to children under the age of 18. In addition, smoking is prohibited in any indoor facility or portion of a facility (owned, leased, or contracted for) used for the routine or regular provision of federally funded health care, day care, or early childhood development, including Head Start services to children under the age of 18. The statutory prohibition also applies if such facilities are constructed, operated, or maintained with Federal funds. The statute does not apply to children's services provided in private residences, facilities funded solely by Medicare or Medicaid funds, portions of facilities used for inpatient drug or alcohol treatment, or facilities where WIC coupons are redeemed. Failure to comply with the provisions of the law may result in the imposition of a civil monetary penalty of up to $1,000 per violation and/or the imposition of an administrative compliance order on the responsible entity.

Approval/Disapproval of an Application

The Secretary of HHS shall approve any application that meets the requirements of FVPSA and this announcement. The Secretary shall not disapprove an application unless the Secretary gives the applicant reasonable notice of the Secretary's intention to disapprove and a 6-month period providing an opportunity for correction of any deficiencies. The Secretary shall give such notice within 45 days after the date of submission of the application if any of the provisions of the application have not been satisfied. If the Tribe does not correct the deficiencies in such application within the 6-month period following the receipt of the Secretary's notice, the Secretary shall withhold payment of any grant funds to such Tribe until such date as the Tribe provides documentation that the deficiencies have been corrected.

VI. Reporting Requirements

Performance Progress Reports (PPR)

ACF grantees must submit a PPR using the standardized format provided by FVPSA and approved by OMB (0970-0280). This report will describe the grant activities carried out during the year, report the number of people served, and contain an evaluation of the effectiveness of such activities. Consortia grantees should compile the information into a comprehensive PPR for submission. A copy of the PPR is available on the FYSB Web site at: www.acf.hhs.gov/programs/fysb/resource/ppr-tribal-fvpsa.

PPRs for Tribes and Tribal organizations are due on an annual basis at the end of the calendar year (December 30) and will cover from October 1 through September 30. Grantees should submit their reports online through the Online Data Collection (OLDC) system at the following address: https://extranet.acf.hhs.gov/ssi with a copy sent to: Family Violence Prevention and Services Program, Family and Youth Services Bureau, Administration on Children, Youth and Families, Administration for Children and Families, Attention: Shena R. Williams, 1250 Maryland Avenue SW., Room 8213, Washington, DC 20024, Phone: (202) 205-5932, Email: Shena.Williams@acf.hhs.gov.

Federal Financial Reports (FFR)

Grantees must submit annual Financial Status Reports. The first SF-425A is due December 30, 2012. The final SF-425A is due December 30, 2013. SF-425A can be found at: www.whitehouse.gov/omb/grants/grants_forms.html, www.forms.gov. Completed reports may be mailed to: Deborah Bell, Division of Mandatory Grants, Office of Grants Management, Administration for Children and Families, 370 L'Enfant Promenade SW., 6th Floor, Washington, DC 20447.

Grantees have the option of submitting their reports online through the Online Data Collection (OLDC) system at the following address: https://extranet.acf.hhs.gov/ssi.

Failure to submit reports on time may be a basis for withholding grant funds, or suspension or termination of the grant. All funds reported as unobligated after the obligation period will be recouped.

VII. FFATA Subaward and Executive Compensation

Awards issued as a result of this funding opportunity may be subject to the Transparency Act subaward and executive compensation reporting requirements of 2 CFR § 170. See ACF's Award Term for Federal Financial Accountability and Transparency Act (FFATA) Subaward and Executive Compensation Reporting Requirement implementing this requirement and additional award applicability information.

ACF has implemented the use of the SF-428 Tangible Property Report and the SF-429 Real Property Status Report for all grantees. Both standard forms are available at www.whitehouse.gov/omb/grants_forms/.

VIII. Agency Contact

Program Office Contact

Shena R. Williams, Program Specialist at (202) 205-5932 or email at Shena.Williams@acf.hhs.gov.

Grants Management Contact

Deborah Bell, Division of Mandatory Grants at (202) 401-4611 or email at Deborah.Bell@acf.hhs.gov

IX. Appendices

A. Assurances of Compliance with Grant Requirements

B. LGBTQ (also known as “Two-Spirited”) Accessibility Policy

Application Due Date: May 6, 2013.

FOR FURTHER INFORMATION CONTACT: Shena R. Williams at (202) 205-5932 or email at Shena.Williams@acf.hhs.gov.

Bryan Samuels,
Commissioner, Administration on Children, Youth and Families.

Appendix A

Assurances of Compliance With Grant Requirements

The grantee certifies that it will comply with the following assurances under the Family Violence Prevention and Services Act, 42 U.S.C. § 10401, et seq. (cited herein by the applicable section number only):

(1) Family Violence Prevention and Services Act (FVPSA) grant funds will be used to provide shelter, supportive services or prevention services to adult and youth victims of family violence, domestic violence, or dating violence and their dependents (section 10408(b)(1)).

(2) Not less than 70 percent of the funds distributed shall be for the primary purpose of providing immediate shelter and supportive services as defined in section 10402(9) and (12) to adult and youth victims of family violence, domestic violence or dating violence as defined in section 10402(2), (3) and (4), and their dependents (section 10408(b)(2)).

(3) Not less than 25 percent of the funds distributed shall be for the purpose of providing supportive services and prevention services as described in section 10408(b)(1)(B) through (H), to victims of family violence, domestic violence, or dating violence, and their dependents (section 10408(b)(2)).

(4) Grant funds will not be used as direct payment to any victim of family violence, domestic violence, or dating violence, or to any dependent of such victim (section 10408(d)(1)).

(5) No income eligibility standard will be imposed on individuals with respect to eligibility for assistance or services supported with funds appropriated to carry out the FVPSA (section 10406(c)(3)).

(6) No fees will be levied for assistance or services provided with funds appropriated to carry out the FVPSA (section 10406(c)(3)).

(7) The address or location of any shelter or facility assisted under the FVPSA that otherwise maintains a confidential location will, except with written authorization of the person or persons responsible for the operation of such shelter, not be made public (section 10406(c)(5)(H)).

(8) Procedures are established to ensure compliance with the provisions of section 10406(c)(5) regarding non-disclosure of confidential of private information (section 10407(a)(2)(A)).

(9) Pursuant to Section 10406(c)(5), comply with the new FVPSA provisions regarding non-disclosure of confidential or private information. As such, the applicant will comply with additional requirements imposed by that section which include but are not limited to: (A) grantees shall not disclose any personally identifying information collected in connection with services requested (including services utilized or denied), through grantee's funded activities or reveal personally identifying information without informed, written, reasonably time-limited consent by the person about whom information is sought, whether for the FVPSA funded activities or any other Federal or State program (additional consent requirements have been omitted but see section 10406(c)(5)(B)(ii)(I) for further requirements); (B) grantees may not release information compelled by statutory or court order unless adhering to the requirements of section 10406(c)(5)(C); (C) grantees may share non-personally identifying information in the aggregate for the purposes enunciated in section 10406(c)(5)(D)(i) as well as for other purposes found in section 10406(c)(5)(D)(ii) and (iii).

(10) As prescribed by section 10406(c)(2) of the FVPSA, the Tribe will use grant funds in a manner which avoids prohibited discrimination on the basis of age, disability, sex, race, color, national origin, or religion.

(11) Funds made available under the FVPSA will be used to supplement and not supplant other Federal, State and local public funds expended to provide services and activities that promote the objectives of the FVPSA (section 10406(c)(6)).

(12) Receipt of supportive services under the FVPSA will be voluntary. No condition will be applied for the receipt of emergency shelter (section 10408(d)(2)).

(13) The Tribe has a law or procedure to bar an abuser from a shared household or a household of the abused person, which may include eviction laws or procedures (section 10407(a)(2)(H)).

Tribally Designated Official

Tribe or Tribal Organization

Appendix B

LGBTQ (also known as “Two-Spirited”) Accessibility Policy

As the Authorized Organizational Representative (AOR) signing this application on behalf of

[Insert full, formal name of applicant organization]

I hereby attest and certify that:

The needs of lesbian, gay, bisexual, transgender, and questioning (also known as “Two-Spirited”) program participants are taken into consideration in applicant's program design. Applicant considered how its program will be inclusive of and non-stigmatizing toward such participants. If not already in place, awardee and, if applicable, sub-awardees must establish and publicize policies prohibiting harassment based on race, sexual orientation, gender, gender identity (or expression), religion, and national origin. The submission of an application for this funding opportunity constitutes an assurance that applicants have or will put such policies in place within 12 months of the award. Awardees should ensure that all staff members are trained to prevent and respond to harassment or bullying in all forms during the award period. Programs should be prepared to monitor claims, address them seriously, and document their corrective action(s) so all participants are assured that programs are safe, inclusive, and non-stigmatizing by design and in operation. In addition, any sub-awardees or subcontractors:

• Have in place or will put into place within 12 months of the award policies prohibiting harassment based on race, sexual orientation, gender, gender identity (or expression), religion, and national origin;

• Will enforce these policies;

• Will ensure that all staff will be trained during the award period on how to prevent and respond to harassment or bullying in all forms, and;

• Have or will have within 12 months of the award, a plan to monitor claims, address them seriously, and document their corrective action(s).

Insert Date of Signature:

Print Name and Title of the AOR:

Signature of AOR:

[FR Doc. 2013-08275 Filed 4-9-13; 8:45 am]

BILLING CODE 4184-32-P